DEPARTMENT OF STATE

[Public Notice: 7006]

U.S. National Commission for UNESCO; Notice of Closed Meeting

The U.S. National Commission for UNESCO will hold a conference call on Thursday, August 19, 2010, beginning at 3 p.m. Eastern Time. The teleconference meeting will be closed to the public to allow the Commission to discuss applications for the U.S. National Commission for UNESCO Laura W. Bush Traveling Fellowship, a fellowship funded through privately donated funds. This call will be closed pursuant to Section 10(d) of the Federal Advisory Committee Act and 5 U.S.C. 552b(c)(6) because it is likely to involve discussion of information of a personal nature regarding the relative merits of individual applicants where disclosure would constitute a clearly unwarranted invasion of personal privacy.

For more information contact Elizabeth Kanick, Executive Director of the U.S. National Commission for UNESCO, Washington, DC 20037. Telephone: (202) 663-0026; Fax: (202) 663-0035; E-mail: DCUNESCO@state.gov.

Dated: June 25, 2010.
Elizabeth Kanick,
Executive Director, U.S. National Commission for UNESCO, Department of State.

[FR Doc. 2010-16521 Filed 7-6-10; 8:45 am]

BILLING CODE 4710-19-P